ENVIRONMENTAL PROTECTION AGENCY

40 CFR Parts 86 and 600

DEPARTMENT OF TRANSPORTATION

National Highway Traffic Safety Administration

49 CFR Parts 523, 531, 533, 536, and 537

[NHTSA-2018-0067; EPA-HQ-OAR-2018-0283; FRL 10000-45-OAR]

RIN 2127-AL76; 2060-AU09

The Safer Affordable Fuel-Efficient (SAFE) Vehicles Rule for Model Years 2021-2026 Passenger Cars and Light Trucks; Correction

AGENCY: Environmental Protection Agency and National Highway Traffic Safety Administration, Department of Transportation.

ACTION: Final rule; correction.

SUMMARY: This document corrects technical errors in the final rule that appeared in the Federal Register on April 30, 2020, entitled “The Safer Affordable Fuel-Efficient (SAFE) Vehicles Rule for Model Years 2021-2026 Passenger Cars and Light Trucks.” That document promulgated final standards for Corporate Average Fuel Economy (CAFE) and carbon dioxide emissions for passenger cars and light trucks (collectively, light-duty vehicles) to be manufactured in model years 2021-2026.

DATES: This correcting document is effective July 8, 2020.

FOR FURTHER INFORMATION CONTACT: EPA: Christopher Lieske, Office of Transportation and Air Quality, Assessment and Standards Division, Environmental Protection Agency, 2000 Traverwood Drive, Ann Arbor, MI 48105; telephone number (734) 214-4584; fax number (734) 214-4816; email address: lieske.christopher@epa.gov, or contact the Assessment and Standards Division, email address: otaq@epa.gov. NHTSA: James Tamm, Office of Rulemaking, Fuel Economy Division, National Highway Traffic Safety Administration, 1200 New Jersey Avenue SE, Washington, DC 20590; telephone number (202) 493-0515.

SUPPLEMENTARY INFORMATION: In FR Doc. 2020-06967 published April 30, 2020, make the following corrections:

1. On pages 25091-25098, tables VII-144 through VII-147 are corrected to read as follows:

BILLING CODE 4910-59-P

BILLING CODE 4910-59-C

40 CFR Chapter I [Corrected]

2. On page 25268, in the first and second columns, the words of issuance for EPA are corrected to read as follows: “For the reasons set forth in the preamble, the Environmental Protection Agency is amending parts 86 and 600 of title 40, chapter I of the Code of Federal Regulations as follows:”

40 CFR 86.1869-12 [Corrected]

3. On page 25270, in the first column, amendatory instruction 5 is corrected to read as follows: “Section 86.1869-12 is amended by revising paragraph (a), adding paragraphs (b)(1)(ix) and (b)(4)(xiii), and revising paragraph (d)(2) to read as follows:”

Andrew Wheeler,
Administrator, Environmental Protection Agency.
Issued in Washington, DC, under authority delegated in 49 CFR 1.95 and 501.5
James Clayton Owens,
Deputy Administrator, National Highway Traffic Safety Administration.

[FR Doc. 2020-14642 Filed 7-6-20; 8:45 am]

BILLING CODE 4910-59-P